DEPARTMENT OF THE INTERIOR

Fish and Wildlife Service

[FWS-R6-ES-2016-N173; FXES11130600000-178-FF06E00000]

Endangered Species Recovery Permit Applications

AGENCY: Fish and Wildlife Service, Interior.

ACTION: Notice of receipt of permit applications; request for comment.

SUMMARY: We, the U.S. Fish and Wildlife Service, invite the public to comment on the following applications for a permit to conduct activities intended to enhance the survival of endangered species. With some exceptions, the Endangered Species Act of 1973, as amended (Act), prohibits certain activities that may impact endangered and threatened species unless a Federal permit allows such activity. The Act also requires that we invite public comment before issuing these permits.

DATES: To ensure consideration, please send your written comments by January 13, 2017.

ADDRESSES: Documents and other information submitted with the applications are available for review, subject to the requirements of the Privacy Act and Freedom of Information Act, by any party who submits a written request for a copy of such documents to the following office within 30 days of the date of publication of this notice. You may use one of the following methods to request hard copies or a CD-ROM of the documents. Please specify the permit you are interested in by number (e.g., Permit No. TE-XXXXXX).

• Email: permitsR6ES@fws.gov. Please refer to the respective permit number (e.g., Permit No. TE-XXXXXX) in the subject line of the message.

• U.S. Mail: Ecological Services, U.S. Fish and Wildlife Service, P.O. Box 25486-DFC, Denver, CO 80225.

• In-Person Drop-off, Viewing, or Pickup: Call (719) 628-2670 to make an appointment during regular business hours at 134 Union Blvd., Suite 645, Lakewood, CO 80228.

FOR FURTHER INFORMATION CONTACT: Kathy Konishi, Recovery Permits Coordinator, Ecological Services, (719) 628-2670 (phone); permitsR6ES@fws.gov (email).

SUPPLEMENTARY INFORMATION:

Background

The Act (16 U.S.C. 1531 et seq.) prohibits certain activities with endangered and threatened species unless authorized by a Federal permit. The Act and our implementing regulations in part 17 of title 50 of the Code of Federal Regulations (CFR) provide for the issuance of such permits and require that we invite public comment before issuing permits for activities involving endangered species.

A permit granted by us under section 10(a)(1)(A) of the Act authorizes the permittee to conduct activities with U.S. endangered or threatened species for scientific purposes, enhancement of propagation or survival, or interstate commerce (the latter only in the event that it facilitates scientific purposes or enhancement of propagation or survival). Our regulations implementing section 10(a)(1)(A) for these permits are found at 50 CFR 17.22 for endangered wildlife species, 50 CFR 17.32 for threatened wildlife species, 50 CFR 17.62 for endangered plant species, and 50 CFR 17.72 for threatened plant species.

Applications Available for Review and Comment

We invite local, State, Tribal, and Federal agencies and the public to comment on the following applications. Please refer to the permit number for the application when submitting comments.

Documents and other information submitted with these applications are available for review, subject to the requirements of the Privacy Act (5 U.S.C. 552a) and Freedom of Information Act (5 U.S.C. 552).

Permit Application Number TE069300

Applicant: Nebraska Game and Parks Commission, Lincoln, NE

The applicant requests the renewal of their permit to continue surveying and monitoring activities for pallid sturgeon (Scaphirhynchus albus) in Nebraska, South Dakota, Kansas, Missouri, and Iowa for the purpose of enhancing the species' survival.

Permit Application Number TE09897C

Applicant: Deidre Duffy, Durango, CO

The applicant requests a new recovery permit to conduct presence/absence surveys of southwestern willow flycatcher (Empidonax traillii extimus) in Colorado, Utah, and New Mexico for the purpose of enhancing the species' survival.

Permit Application Number TE04585C

Applicant: Fort Belknap Fish and Wildlife Department, Harlem, MT

The applicant requests an amendment to their current permit to conduct presence/absence surveys for black-footed ferrets (Mustela nigripes) in Montana for the purpose of enhancing the species' survival.

Permit Application Number TE27491B

Applicant: PG Environmental, LLC, Golden, CO

The applicant requests the renewal of their permit to continue surveying and monitoring activities for bonytail chub (Gila elegans), Colorado pikeminnow (Ptychocheilus lucius), humpback chub (Gila cypha), and razorback sucker (Xyrauchen texanus) in Colorado for the purpose of enhancing the species' survival.

Permit Application Number TE049109

Applicant: Red Butte Garden and Arboretum, Salt Lake City, UT

The applicant requests an amendment to their current permit to collect vouchers and seeds in Arizona and propagate Gierisch mallow (Sphaeralcea gierischii) for genetic research purposes to enhance the species' survival.

Permit Application Number TE85664B

Applicant: Wingate Biological Solutions, Durango, CO

The applicant requests an amendment to their current permit to conduct presence/absence surveys for southwestern willow flycatcher (Empidonax traillii extimus) in Arizona and New Mexico for the purpose of enhancing the species' survival.

Permit Application Number TE039100

Applicant: Nebraska Public Power District, Lincoln, NE

The applicant requests the renewal of their permit to continue surveying and monitoring activities for the interior least tern (Sternula antillarum athalassos) and the American burying beetle (Nicrophorus americanus) in Nebraska for the purpose of enhancing the species' survival.

Permit Application Number TE038221

Applicant: Central Nebraska Public Power District, Gothenburg, NE

The applicant requests the renewal of their permit to continue surveying and monitoring activities for the interior least tern (Sternula antillarum athalassos) and the American burying beetle (Nicrophorus americanus) in Nebraska for the purpose of enhancing the species' survival.

Permit Application Number TE067729

Applicant: Kansas State University, Manhattan, KS

The applicant requests an amendment to their current permit to conduct telemetry studies of Colorado pikeminnow (Ptychocheilus lucius), and razorback sucker (Xyrauchen texanus) in Colorado and Utah. Upon review and approval, the applicant's permit will extend for another five years. The extension encompasses previously approved survey and monitoring projects for loach minnow (Tiaroga cobitis) and spikedace (Meda fulgida) in New Mexico and Topeka shiner (Notropis topeka) in Kansas. All projects are for the purpose of enhancing the species' survival.

Permit Application Number TE047290

Applicant: Colorado Parks and Wildlife John W. Mumma Native Aquatic Species Restoration Facility, Alamosa, CO

The applicant requests the renewal of their permit for research, propagation, transport, and release of bonytail chub (Gila elegans), Colorado pikeminnow (Ptychocheilus lucius), humpback chub (Gila cypha), and razorback sucker (Xyrauchen texanus) into the wild for the purpose of enhancing the species' survival.

Permit Application Number TE040748

Applicant: Cheyenne Mountain Zoo, Colorado Springs, CO

The applicant requests the renewal of their permit to exhibit Mexican wolf (Canis lupus spp. baileyi) and to exhibit, propagate, and transport black-footed ferrets (Mustela nigripes) and Wyoming toad (Anaxyrus baxteri), for the purpose of enhancing the species' survival.

National Environmental Policy Act

The proposed activities in the requested permits qualify as categorical exclusions under the National Environmental Policy Act, as provided by Department of the Interior implementing regulations in part 46 of title 43 of the Code of Federal Regulations (43 CFR 46.205, 46.210, and 46.215).

Public Availability of Comments

All comments and materials we receive in response to these requests will be available for public inspection, by appointment, during normal business hours at the address listed above in ADDRESSES.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.).

Michael G. Thabault,
Assistant Regional Director, Mountain-Prairie Region.

[FR Doc. 2016-29971 Filed 12-13-16; 8:45 am]

BILLING CODE 4333-15-P